DEPARTMENT OF COMMERCE

International Trade Administration

[A-485-803]

Certain Cut-to-Length Carbon Steel Plate from Romania: Notice of Extension of Time Limit for the Preliminary Results of the Antidumping Duty Administrative Review

AGENCY: Import Administration, International Trade Administration, Department of Commerce.

EFFECTIVE DATE: May 3, 2007.

FOR FURTHER INFORMATION CONTACT: John Drury or Dena Crossland, AD/CVD Operations, Office 7, Import Administration, International Trade Administration, U.S. Department of Commerce, 14th Street and Constitution Avenue, NW., Washington, DC 20230; telephone: (202) 482-0195 or (202) 482-3362, respectively.

SUPPLEMENTARY INFORMATION:

Background

On September 29, 2006, the Department of Commerce (“the Department”) published a notice of initiation of administrative review of the antidumping duty order on certain cut-to-length carbon steel plate from Romania, covering the period August 1, 2005, through July 31, 2006. See Initiation of Antidumping and Countervailing Duty Administrative Reviews, 71 FR 57465 (September 29, 2006). The preliminary results for this review are currently due no later than May 3, 2007.

Statutory Time Limits

Section 751(a)(3)(A) of the Tariff Act of 1930, as amended (“the Act”), requires the Department to issue the preliminary results of an administrative review within 245 days after the last day of the anniversary month of an order for which a review is requested and the final results of review within 120 days after the date on which the preliminary results are published. If it is not practicable to complete the review within the time period, section 751(a)(3)(A) of the Act allows the Department to extend these deadlines to a maximum of 365 days and 180 days, respectively.

Extension of Time Limits for Preliminary Results

The deadline for the preliminary results of this administrative review is currently May 3, 2007. The Department determines that completion of the preliminary results within the statutory time period is not practicable. The Department issued a supplemental sales questionnaire to respondent Mittal Steel Galati S.A. (“MS Galati”) for clarification pertaining to the date of sale issue for respondent's U.S. sales on April 2, 2007, and the respondent submitted its supplemental questionnaire response on April 16, 2007. The Department requires additional time to review and analyze MS Galati's questionnaire response, and to issue additional supplemental sales questionnaires, if necessary.

Therefore, given the additional time needed to conduct a complete analysis for this administrative review, in accordance with section 751(a)(3)(A) of the Act, the Department is extending the time limit for completion of the preliminary results by an additional 60 days to no later than July 2, 2007. The final results continue to be due no later than 120 days after publication of the notice of the preliminary results.

This notice is published in accordance with sections 751(a)(3)(A) and 777(i)(1) of the Act.

Dated: April 27, 2007.
Stephen J. Claeys,
Deputy Assistant Secretary for Import Administration.

[FR Doc. E7-8478 Filed 5-2-07; 8:45 am]

BILLING CODE 3510-DS-S